NUCLEAR REGULATORY COMMISSION

10 CFR Parts 50 and 52

[NRC-2024-0140]

Draft Regulatory Guides: Criteria for Power Systems for Nuclear Power Plants and Criteria for the Protection of Class 1E Power Systems and Equipment for Nuclear Power Plants

AGENCY: Nuclear Regulatory Commission

ACTION: Draft guides; request for comment.

SUMMARY: The U.S. Nuclear Regulatory Commission (NRC) is issuing for public comment two related draft Regulatory Guides (DGs) namely DG-1420, “Criteria for Power Systems for Nuclear Power Plants,” and DG-1354, “Criteria for the Protection of Class 1E Power Systems and Equipment for Nuclear Power Plants.” DG-1420 is proposed Revision 4 to Regulatory Guide (RG) 1.32 of the same name and DG-1354 is newly proposed Revision 0 of RG 1.238. DG-1420 describes an approach that is acceptable to the NRC staff to meet regulatory requirements for the design, operation, and testing of electric power systems in nuclear power plants. DG-1354 describes an approach that is acceptable to the NRC staff for use in complying with NRC regulations that address the protection of Class 1E power systems and equipment at nuclear power plants.

DATES: Submit comments by September 27, 2024. Comments received after this date will be considered if it is practical to do so, but the NRC is able to ensure consideration only for comments received on or before this date.

ADDRESSES: You may submit comments by any of the following methods; however, the NRC encourages electronic comment submission through the Federal rulemaking website.

• Federal rulemaking website: Go to https://www.regulations.gov and search for Docket ID NRC-2024-0140. Address questions about Docket IDs in Regulations.gov to Stacy Schumann; telephone: 301-415-0624; email: Stacy.Schumann@nrc.gov. For technical questions, contact the individuals listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Michael Eudy, Office of Nuclear Regulatory Research, telephone: 301-415-3104; email: Michael.Eudy@nrc.gov, Mohammad Sadollah, Office of Nuclear Regulatory Research, telephone: 301-415-6804; email: Mohammad.Sadollah@nrc.gov, and Sheila Ray, Office of Nuclear Reactor Regulation, telephone 301-415-365; email: Sheila.Ray@nrc.gov. All are staff of the U.S. Nuclear Regulatory Commission, Washington, DC 20555-0001.

SUPPLEMENTARY INFORMATION:

I. Obtaining Information and Submitting Comments

A. Obtaining Information

Please refer to Docket ID NRC-2024-0140 when contacting the NRC about the availability of information for this action. You may obtain publicly available information related to this action by any of the following methods:

• Federal rulemaking website: Go to https://www.regulations.gov and search for Docket ID NRC-2024-0140.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The ADAMS accession number for each document referenced (if it is available in ADAMS) is provided the first time that it is mentioned in this document.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

B. Submitting Comments

The NRC encourages electronic comment submission through the Federal rulemaking website (https://www.regulations.gov). Please include Docket ID NRC-2024-0140 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Additional Information

The NRC is issuing for public comment two DGs in the NRC's “Regulatory Guide” series namely DG-1354 and DG-1420. This series was developed to describe methods that are acceptable to the NRC staff for implementing specific parts of the agency's regulations, to explain techniques that the staff uses in evaluating specific issues or postulated events, and to describe information that the staff needs in its review of applications for permits and licenses.

The DG, entitled “Criteria for Power Systems for Nuclear Power Plants,” is temporarily identified by its task number, DG-1420 (ADAMS Accession No. ML24158A060) and the DG, entitled, “Criteria for the Protection of Class 1E Power Systems and Equipment for Nuclear Power Plants,” is temporarily identified by its task number, DG-1354 (ADAMS Accession No. ML24158A041).

DG-1420 describes an approach that is acceptable to the NRC staff to meet regulatory requirements for the design, operation, and testing of electric power systems in nuclear power plants. DG-1420 endorses, with exceptions and clarifications, the Institute of Electrical and Electronics Engineers (IEEE) Standard (Std.) 308 2020, “IEEE Standard Criteria for Class 1E Power Systems for Nuclear Power Generating Stations.” In addition, DG-1420 includes the guidance provisions of RG 1.41, Revision 0, “Preoperational Testing of Redundant On-Site Electric Power Systems to Verify Proper Load Group Assignments,” which describes methods acceptable to the NRC for independence among redundant, onsite power sources and their load groups as part of the initial preoperational testing program and after major modifications or repairs. The staff plans to withdraw RG 1.41 if DG-1420 is finalized as RG 1.32, Revision 4.

DG-1354 describes an approach that is acceptable to the staff of the NRC for use in complying with NRC regulations that address the protection of Class 1E power systems and equipment at nuclear power plants. DG-1354 endorses, with exceptions, additions and clarifications, IEEE Std. 741-2022, “IEEE Standard for Criteria for the Protection of Class 1E Power Systems and Equipment for Nuclear Power Generating Stations.”

The staff is also issuing for public comment the draft regulatory analyses (ADAMS Accession Nos. ML24158A062 and ML24158A042). The staff developed these regulatory analyses to assess the value of issuing or revising the RGs as well as alternative courses of action.

As noted in the Federal Register on December 9, 2022 (87 FR 75671), this document is being published in the “Proposed Rules” section of the Federal Register to comply with publication requirements under chapter I of title 1 of the Code of Federal Regulations (CFR).

III. Backfitting, Forward Fitting, and Issue Finality

If finalized, DG-1420 and DG-1354, would not constitute backfitting as defined in 10 CFR 50.109, “Backfitting,” and as described in NRC Management Directive (MD) 8.4, “Management of Backfitting, Forward Fitting, Issue Finality, and Information Requests”; affect issue finality of any approval issued under 10 CFR part 52, “Licenses, Certificates, and Approvals for Nuclear Power Plants”; or constitute forward fitting as defined in MD 8.4, because, as explained in these DGs, licensees would not be required to comply with the positions set forth in these DGs.

IV. Submitting Suggestions for Improvement of Regulatory Guides

A member of the public may, at any time, submit suggestions to the NRC for improvement of existing RGs or for the development of new RGs. Suggestions can be submitted on the NRC's public website at https://www.nrc.gov/reading-rm/doc-collections/reg-guides/contactus.html. Suggestions will be considered in future updates and enhancements to the “Regulatory Guide” series.

Dated: August 21, 2024.
For the Nuclear Regulatory Commission.
Meraj Rahimi,
Chief, Regulatory Guide and Programs Management Branch, Division of Engineering, Office of Nuclear Regulatory Research.

[FR Doc. 2024-19187 Filed 8-27-24; 8:45 am]

BILLING CODE 7590-01-P